DEPARTMENT OF LABOR

Occupational Safety and Health Administration

29 CFR Part 1910

[Docket No. S-777]

RIN 1218-AB36

Ergonomics Program

AGENCY: Occupational Safety and Health Administration (OSHA), Department of Labor.

ACTION: Final rule; removal.

SUMMARY: Under the Congressional Review Act, Congress has passed, and the President has signed, Public Law 107-5, a resolution of disapproval of OSHA's final Ergonomics Program Standard. OSHA published the ergonomics program standard on November 14, 2000 (65 FR 68262), and the standard became effective on January 16, 2001. Because Public Law 107-5 invalidates the standard, OSHA is hereby removing it from the Code of Federal Regulations.

DATES: This action is effective April 23, 2001.

FOR FURTHER INFORMATION CONTACT: OSHA Office of Information at (202)-693-1999.

SUPPLEMENTARY INFORMATION: On November 14, 2000, OSHA issued a final Ergonomics Program Standard (Subpart W of 29 CFR 1910) (65 FR 68262). The final rule became effective on January 16, 2001. On March 6, 2001 (Cong. Rec. p. S1887), the United States Senate passed a resolution of disapproval (S.J. Res. 6) of the Ergonomics Program Standard under the Congressional Review Act (5 U.S.C. 801 et seq.). The House of Representatives then passed S.J. Res. 6 on March 7, 2001 (Cong. Rec. p. H667). President Bush signed the resolution into law as Public Law 107-5 on March 20, 2001. Accordingly, OSHA is hereby removing the standard from the Code of Federal Regulations.

Authority: This document was prepared under the direction of R. Davis Layne, Acting Assistant Secretary for Occupational Safety and Health. It is issued under the authority of the Congressional Review Act (5 U.S.C. 801 et seq.), and Pub. L. 107-5 (March 20, 2001).

Signed at Washington, D.C. this 17 day of April, 2001.
R. Davis Layne,
Acting Assistant Secretary of Labor for Occupational Safety and Health.

PART 1910—[AMENDED]

Accordingly, for the reasons set forth in the preamble, OSHA amends 29 CFR Part 1910 by removing Subpart W.

[FR Doc. 01-9957 Filed 4-20-01; 8:45 am]

BILLING CODE 4510-26-M